DEPARTMENT OF DEFENSE

Office of the Secretary

[Transmittal No. 21-24]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-24 with attached Policy Justification and Sensitivity of Technology.

Dated: October 13, 2021.
Aaron T. Siegel,
Alternate OSD Federal Register Liaison Officer, Department of Defense.

Transmittal No. 21-24

Notice of Proposed Issuance of Letter of Offer Pursuant to Section 36(b)(1) of the Arms Export Control Act, as amended

(i) Prospective Purchaser: Government of Germany

(ii) Total Estimated Value:

Major Defense Equipment * | $1.10 billion
Other | $ .67 billion
Total | $1.77 billion

(iii) Description and Quantity or Quantities of Articles or Services under Consideration for Purchase:

Major Defense Equipment (MDE):

Five (5) P-8A Patrol Aircraft

Nine (9) Multifunctional Information Distribution System Joint Tactical Radio Systems 5 (MIDS JTRS 5)

Twelve (12) LN-251 with Embedded Global Positioning Systems (GPS)/lnertial Navigation Systems (EGIs)

Non-MDE:

Also included are commercial engines; Tactical Open Mission Software (TOMS); Electro-Optical (EO) and Infrared MX-20HD; AN/ AAQ-2(V) I Acoustic System; AN/APY-10 radar; ALQ-240 Electronic Support Measures; NexGen Missile Warning Sensors; AN/PRC-117G Manpack radios include MPE-S type II with SAASM 3.7; Global Positioning Systems (GPS) 524D Precise Positioning System (PPS) for APY-10 Radar; AN/ALQ-213 Electronic Counter Measures; AN/ALE-47 Counter Measures Dispensing Systems; AN/UPX IFF Interrogators; APX-123A(C) IFF Digital Transponders; KIV-78 IFF Mode 5 Cryptographic Appliques; CCM-701A Cryptographic Core Modules; KY-100M, KY-58, KYV-5 for HF-121C radios; AN/PYQ-10 V3 Simple Key Loaders (SKL) with KOV-21 Cryptographic Appliques; aircraft spares; spare engine; support equipment; operational support systems; training; training devices; maintenance trainer/classrooms; publications; software; engineering technical assistance (ETA); logistics technical assistance (LTA); Country Liaison Officer (CLO) support; Contractor Engineering Technical Services (CETS); repair and return (RoR); transportation; aircraft ferry; and other associated training and support; and other related elements of logistics and program support.

(iv) Military Department: Navy (GY-P-SCO)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: March 12, 2021

* As defined in Section 47(6) of the Arms Export Control Act.

POLICY JUSTIFICATION

Germany—P-8A Aircraft and Associated Support

The Government of Germany has requested to buy five (5) P-8A Patrol Aircraft; nine (9) Multifunctional Distribution System Joint Tactical Radio Systems 5 (MIDS JTRS 5); and twelve (12) LN-251 with Embedded Global Positioning Systems (GPS)/Inertial Navigations Systems (EGls). Also included are commercial engines; Tactical Open Mission Software (TOMS); Electro-Optical (EO) and Infrared MX-20HD; AN/ AAQ-2(V) I Acoustic System; AN/APY-10 radar; ALQ-240 Electronic Support Measures; NexGen Missile Warning Sensors; AN/PRC-117G Manpack radios include MPE-S type II with SAASM 3.7; Global Positioning Systems (GPS) 524D Precise Positioning System (PPS) for APY-10 Radar; AN/ALQ-213 Electronic Counter Measures; AN/ALE-47 Counter Measures Dispensing Systems; AN/UPX IFF Interrogators; APX-123A(C) IFF Digital Transponders; KIV-78 IFF Mode 5 Cryptographic Appliques; CCM-701A Cryptographic Core Modules; KY-100M, KY-58, KYV-5 for HF-121C radios; AN/PYQ-10 V3 Simple Key Loaders (SKL) with KOV-21 Cryptographic Appliques; aircraft spares; spare engine; support equipment; operational support systems; training; training devices; maintenance trainer/classrooms; publications; software; engineering technical assistance (ETA); logistics technical assistance (LTA); Country Liaison Officer (CLO) support; Contractor Engineering Technical Services (CETS); repair and return (RoR); transportation; aircraft ferry; and other associated training and support; and other related elements of logistics and program support. The total estimated program cost is $1.77 billion.

This proposed sale will support the foreign policy and national security of the United States by improving the security of a NATO Ally which is an important force for political and economic stability in Europe.

The proposed sale will improve Germany's capability to meet current and future threats by providing critical capabilities to coalition maritime operations. Germany currently operates the Lockheed P-3C Orion, but that aircraft is reaching end-of-life and will retire in 2024. Germany plans to replace it with the P-8A Poseidon. The proposed sale will allow Germany to modernize and sustain its Maritime Surveillance Aircraft (MSA) capability for the next 30 years. Germany will have no difficulty transitioning its MSA force to P-8 and absorbing these aircraft into its armed forces.

The proposed sale of this equipment and support will not alter the basic military balance in the region.

The prime contractor will be The Boeing Company, Seattle, WA. There are no known offset agreements proposed in connection with this potential sale.

Implementation of the proposed sale will require the assignment of four (4) U.S. Government and four (4) contractor representatives to Germany for a duration of two (2) years to support equipment familiarization, training and supply support.

There will be no adverse impact on U.S. defense readiness as a result of this proposed sale.

Transmittal No. 21-24

Notice of Proposed Issuance of Letter of Offer Pursuant to Section 36(b) of the Arms Export Control Act

Annex

Item No. vii

(vii) Sensitivity of Technology:

1. The P-8A aircraft is a militarized version of the Boeing 737-800 Next Generation (NG) commercial aircraft. The P-8A is replacing the P-3C as the Navy's long-range anti-submarine warfare (ASW), anti-surface warfare (ASuW), intelligence, surveillance and reconnaissance (ISR) aircraft capable of broad-area, maritime, and littoral operations.

2. Multifunctional Information Distribution System - Joint Tactical Radio System (MIDS JTRS) 5, is an advanced Link-16 command, control, communications, and intelligence (C31) system incorporating high-capacity, jam-resistant, digital communication links for exchange of near real-time tactical information, including both data and vice, among air, ground, and sea elements.

3. The Embedded Global Positioning System (EGI)-Inertial Navigation System (INS)/LN-251 is a sensor that combines Global Positioning System (GPS) and inertial sensor inputs to provide accurate location information for navigation and targeting.

4. Tactical Open Mission Software (TOMS). Functions include environment planning, tactical aids, weapons planning aids, and data correlation. TOMS includes an algorithm for track fusion which automatically correlates tracks produced by on board and off board sensors.

5. Electro-Optical (EO) and Infrared (IR) MX-20HD. The EO/IR system processes visible EO and IR spectrum (IR Focal Plane Array (FPA) and Turret Stabilization) to detect and image objects.

6. AN/AQQ-2(V)1 Acoustic System. The Acoustic sensor system is integrated within the mission system as the primary sensor for the aircraft ASW missions. The system has multi-static active (MAC) 64 sonobuoy processing capability and acoustic sensor prediction tools.

7. AN/APY-10 Radar. The aircraft radar is a direct derivative of the legacy AN/APS 137(V) installed in the P-3C. The radar capabilities include GPS selective availability anti-spoofing monitoring (SAASM), SAR and ISAR imagery resolutions, and periscope detection mode.

8. ALQ-240 Electronic Support Measures (ESM). This system provides real time capability for the automatic detection, location, measurement, and analysis of RF signals and modes. Real time results are compared with a library of known emitters to perform emitter classification.

9. Electronic Warfare Self Protection (EWSP). The P-8A Electronic Warfare Self Protection (EWSP) suite consists of the ALQ-213 Electronic Warfare Management System (EWMS), ALE-47 Countermeasures Dispensing System (CMDS) and the NexGEN Missile Warning Sensors (MWS). EWSP includes threat information.

10. AN/PRC-117G Radio, Manpack. The AN/PRC-117G is a tactical radio that extends communications Beyond-Line-Of-Sight (BLOS) with abilities for simultaneous SATCOM voice and data transmission. Situational Awareness is enhanced by an embedded Selective Availability Anti-Spoofing Module (SAASM) 3.7 GPS receiver.

11. GPS 524D Precise Positioning System (PPS) with Selective Availability Anti-Spoofing Module (SAASM) for APY -10 Radar. The radar Receiver Exciter Processor (REP) contains GPS SAASM Mode III hardware. The APY-10 radar hardware and software are unclassified. APY-10 Radar provides the following capabilities: Synthetic Aperture Radar/Inverse Synthetic Aperture Radar (SAR/ISAR) resolution, Geo-Location, Periscope Detection Mode, Track Generation, Track While Scan, Color Weather Radar, and IFF Interface.

12. AN/UPX IFF Interrogator. The Identification Friend or Foe (IFF) AN/UPX-43 Interrogator system provides operators with the capability for timely and accurate display of both civil and military air traffic.

13. AN/APX-123A(C) IFF Transponder Digital. The Identification Friend or Foe (IFF) AN/APX-123A transponder is capable of both Mode 5 and Mode S secure modes and provides own ship positional information.

14. KIV-78 IFF Mode 5 Cryptographic Applique. The KIV-78 is Type 1 NSA-certified COMSEC for IFF (Identification Friend or Foe). KIV-78 provides cryptographic and time-of-day services, concurrent Mode 5 operations as well as concurrent interrogator/transponder operations. KIV-78 IFF system deployed to identify cooperative, friendly systems.

15. CCM-701A Cryptographic Core Module. Common Data Link is used for line of sight secure transmission of video imagery to Ground Terminals, and Ships.

16. KY-100M, KY-58, KYV-5 for HF-121CD Radio. The KY-100M is a narrowband/wideband terminal that interoperates with TACTERM (CV-3591/KYV-5), MINTERM (KY-99A), VINSON (KY-57, KY-58) and SINCGARS. A self-contained terminal including COMSEC, KY-100M provides for secure voice and data communications in tactical airborne/ground environments. The KY-100M is based on the KY-99A architecture with enhanced interface capability. It includes KY-99A's operational modes, and KY-58's operational modes.

17. AN/PYQ-10 V3 Simple Key Loader (SKL) with KOV-21 Cryptographic Applique. The Simple Key Loader (SKL) is a ruggedized, portable, hand-held fill device, for securely receiving, storing, and transferring data between compatible cryptographic and communications equipment. Provides streamlined management of COMSEC key, Electronic Protection (EP) data, and Signal Operating Instructions (SOI). Cryptographic functions are performed by an embedded KOV-21 card.

18. The highest level of classification of defense articles, components, and services included in this potential sale is SECRET.

19. If a technologically advanced adversary were to obtain knowledge of the hardware and software elements, the information could be used to develop countermeasures or equivalent systems which might reduce system effectiveness or be used in the development of a system with similar or advanced capabilities.

20. A determination has been made that Germany can provide substantially the same degree of protection for the technology being released as the U.S. Government. This potential sale is necessary in furtherance of the U.S. foreign policy and national security objectives as outlined in the Policy Justification.

21. All defense articles and services listed in this transmittal have been authorized for release and export to Germany.

[FR Doc. 2021-22664 Filed 10-15-21; 8:45 am]

BILLING CODE 5001-06-P